DEPARTMENT OF COMMERCE

National Oceanic and Atmospheric Administration

RTID 0648-XA084

South Atlantic Fishery Management Council; Public Meetings

AGENCY: National Marine Fisheries Service (NMFS), National Oceanic and Atmospheric Administration (NOAA), Commerce.

ACTION: Notice of public meetings.

SUMMARY: The South Atlantic Fishery Management Council (Council) will hold a meeting of the Information and Education Advisory Panel (AP) on April 14-15, 2020 and the Snapper Grouper AP from April 15-17, 2020.

DATES: The Information and Education AP will meet from 1:30 p.m. to 5:30 p.m. on April 14 and from 8:30 a.m. until 12 p.m. on April 15, 2020. The Snapper Grouper AP will meet from 1:30 p.m. to 5 p.m. on April 15, from 8:30 a.m. until 5 p.m. on April 16, and from 8:30 a.m. until 12 noon on April 17, 2020.

ADDRESSES: Meeting address: The meetings will be held at the Crowne Plaza, 4831 Tanger Outlet Boulevard, North Charleston, SC 29418; telephone: (843) 744-4472.

Council address: South Atlantic Fishery Management Council, 4055 Faber Place Drive, Suite 201, N Charleston, SC 29406.

FOR FURTHER INFORMATION CONTACT: Kim Iverson, Public Information Officer, SAFMC; phone: (843) 571-4366 or toll free (866) SAFMC-10; fax: (843) 769-4520; email: kim.iverson@safmc.net.

SUPPLEMENTARY INFORMATION: The AP meetings are open to the public and will be available via webinar as they occur. Registration is required. Webinar registration information, a public comment form, and other meeting materials will be posted to the Council's website at: http://safmc.net/safmc-meetings/current-advisory-panel-meetings/ as it becomes available.

Please note that the evolving public health situation regarding COVID-19 may affect the conduct of the advisory panel meetings. At the time this notice was submitted for publication, we anticipated the advisory panel meetings would be conducted as planned, in person, and without opportunities for remote participation other than the webinar availability as noted above. Council staff will monitor COVID-19 developments and will determine if there is a need to allow some additional level of remote participation or other contingency plan such as postponement of non-essential agenda items. If such measures are deemed necessary, Council staff will post notice of them prominently on our website (www.safmc.net). Potential meeting participants are encouraged to check the South Atlantic Council's website frequently for such information and updates.

Information and Education Advisory Panel

Agenda items for the Information and Education AP meeting include: An update on the Council's outreach and education efforts addressing best fishing practices and new electronic reporting regulations for the for-hire sector; updates on electronic reporting, the Fish Rules mobile application for fishing regulations, and Citizen Science projects; and an overview of regulations addressing Sargassum in the South Atlantic.

Snapper Grouper Advisory Panel

The Snapper Grouper AP meeting agenda will include the following: An update on recent regulations and amendments to fishery management plans currently under Secretarial review; presentations on shark depredation and the South Atlantic Ecosystem Status Report; and updates on Spawning Special Management Zones, the Southeast Data, Assessment and Review (SEDAR) Stock Assessment program, the Council's Citizen Science Program, and the MyFishCount recreational fishing reporting pilot program. The AP will also receive an overview of Regulatory Amendment 34 to the Snapper Grouper Fishery Management Plan addressing Special Management Zones in North Carolina and South Carolina and provide recommendations, develop Fishery Performance Reports for species within the Snapper Grouper management complex as needed, and provide recommendations to assist in evaluating the need for conservation and management of Cubera Snapper, Margate, Sailor's Choice, Coney, Yellowfin Grouper, and Saucereye Porgy.

The advisory panels will discuss other agenda items as necessary and develop recommendations for committee consideration as appropriate.

Special Accommodations

The meetings are physically accessible to people with disabilities. Requests for auxiliary aids should be directed to the Council office (see ADDRESSES) 5 days prior to the meeting.

Note: The times and sequence specified in this agenda are subject to change.

Authority: 16 U.S.C. 1801 et seq.

Dated: March 16, 2020.
Tracey L. Thompson,
Acting Deputy Director, Office of Sustainable Fisheries, National Marine Fisheries Service.

[FR Doc. 2020-05789 Filed 3-19-20; 8:45 am]

BILLING CODE 3510-22-P